Proclamation 10798 of August 30, 2024

National Prostate Cancer Awareness Month, 2024

By the President of the United States of America

A Proclamation

Too many Americans know the grief of losing a father, son, brother, or friend to prostate cancer. Nearly 300,000 American men get diagnosed with this terrible disease and over 35,000 people lose their lives to it, making prostate cancer the second leading cause of cancer death for men. This National Prostate Cancer Awareness Month, we mourn all the courageous men we have tragically lost too soon to prostate cancer. We honor the extraordinary resilience of those currently living with and surviving this disease. And we thank the families who tirelessly support their loved ones every step of the way.

Despite the enormous strides made over the last few decades in fighting and treating prostate cancer, challenges persist. Far too many men—approximately one in every eight—will be diagnosed in their lifetime. Furthermore, the disease disproportionately affects Black and Hispanic men. And too many patients and their families are left to decipher complex medical information alone, are saddled with the overwhelming cost of treatment, and are forced to advocate for effective medical care for their loved ones.

I came into office committed to putting our country's best minds and resources toward ending cancer as we know it. Toward that aim, I reignited the Cancer Moonshot with the goal of cutting the cancer death rate by at least 50 percent over 25 years. I secured $4 billion in bipartisan funding for the Advanced Research Projects Agency for Health to pioneer new breakthroughs in preventing, detecting, and treating cancer and other life-threatening diseases. The Departments of Defense and Veterans Affairs expanded research efforts to provide more service members and veterans facing prostate cancer with the opportunity to participate in clinical studies to learn about this disease and develop new treatment approaches. And the National Institutes of Health is funding groundbreaking research to better treat prostate cancer in the early stages and help people with prostate cancer live longer, healthier lives.

I believe that health care is a right, not a privilege. That is why my Administration is working to ensure that every American has free access to a doctor by expanding and strengthening coverage under the Affordable Care Act, Medicaid, and Medicare. Now, millions of Americans have access to free cancer screenings and primary care visits, and millions of families are saving approximately $800 per year on their health insurance premiums. I also signed the Inflation Reduction Act, which will soon cap total out-of-pocket prescription drug costs for people on Medicare at $2,000 per year, which could save beneficiaries with prostate cancer thousands per year. Additionally, we are making cancer navigation resources, which guide families through the diagnosis and treatment process, more accessible—from transportation to the hospital to determining how to pay for the exorbitant health care costs. I am proud that, since I took office, millions of Americans have gained access to these critical services for the first time.

During National Prostate Cancer Awareness Month, we are reminded that early detection and screening are critical to beating prostate cancer. Experts recommend that men—especially those at high risk for cancer—discuss screening for prostate cancer with their doctors. This month and every month, let us come together and recommit to finally ending cancer as we know it—for all the lives we have tragically lost and the lives we can still save.

NOW, THEREFORE, I, JOSEPH R. BIDEN JR., President of the United States of America, by virtue of the authority vested in me by the Constitution and the laws of the United States, do hereby proclaim September 2024 as National Prostate Cancer Awareness Month. I encourage citizens, government agencies, private businesses, nonprofit organizations, and other interested groups to join in activities that will increase awareness of what Americans can do to prevent and cure prostate cancer.

IN WITNESS WHEREOF, I have hereunto set my hand this thirtieth day of August, in the year of our Lord two thousand twenty-four, and of the Independence of the United States of America the two hundred and forty-ninth.

[FR Doc. 2024-20124

Filed 9-4-24; 8:45 am]

Billing code 3395-F4-P